ENVIRONMENTAL PROTECTION AGENCY

[EPA-HQ-OAR-2022-0430; FRL-12197-01-OAR]

Notice of Data Availability Relevant to Data Reported Under the American Innovation and Manufacturing Act of 2020

AGENCY: Environmental Protection Agency (EPA).

ACTION: Notice of data availability.

SUMMARY: This Notice of Data Availability is to alert stakeholders that the U.S. Environmental Protection Agency (EPA) has released data on production, consumption and other activity related to hydrofluorocarbons regulated under the American Innovation and Manufacturing Act of 2020. The Agency has published these data in the Protecting Our Climate by Reducing Use of HFCs web area.

DATES: October 7, 2024.

FOR FURTHER INFORMATION CONTACT: Leo Cosgrove, U.S. Environmental Protection Agency, Stratospheric Protection Division, telephone number: 202-564-2870; or email address: Cosgrove.Leo@epa.gov. You may also visit EPA's website at https://www.epa.gov/climate-hfcs-reduction for further information.

SUPPLEMENTARY INFORMATION:

I. Background

EPA has published information collected under mandatory reporting requirements in 40 CFR part 84 that support the hydrofluorocarbon (HFC) phasedown specified in the American Innovation and Manufacturing Act of 2020 (AIM Act or Act), codified at 42 U.S.C. 7675. This includes information regarding entities' HFC allowance usage.

II. What information is available?

EPA is providing notice that the Agency has published the following data in the Protecting Our Climate by Reducing Use of HFCs web area for calendar year 2023.

Per entity:

• Unused consumption allowances

• Unused production allowances

• Administrative consequences and acquisitions

• Requests for additional consumption allowances

• Number of allowances transferred

• Number of offset allowances deducted from transferor balance

• Number of consumption allowances expended

• Number of production allowances expended

• Quantity of material received for reclamation

Per facility:

• Amount of HFC-23 generated

• Emissions of HFC-23

By regulated HFC:

• Amount destroyed

• Amount exported

• Total amount imported

• Amount imported and not used as feedstock

• Total amount produced (gross)

• Amount produced for feedstock use

• Calculated consumption consistent with the AIM Act

• Calculated consumption consistent with reporting requirements under the Montreal Protocol

• Total end of year inventory

Cynthia A. Newberg,
Director, Stratospheric Protection Division.

[FR Doc. 2024-23143 Filed 10-4-24; 8:45 am]

BILLING CODE 6560-50-P